NATIONAL COMMISSION ON TERRORIST ATTACKS UPON THE UNITED STATES

Public Hearing

ACTION: Notice of public hearing.

SUMMARY: The National Commission on Terrorist Attacks Upon the United States will hold its tenth public hearing on April 13-14, 2004 in Washington, DC. The two-day hearing will examine the performance of law enforcement and the intelligence communities prior to September 11 and evaluate post-9/11 reforms in these areas. The hearing will be open to the public and members of the media. Seating will be provided on a first-come, first-served basis, and doors will open at 8 a.m. Members of the media must register by the close of business on April 9, 2004, by visiting the Commission's Web site, http://www.9-11commission.gov. Members of the media, particularly photographers and radio and television broadcasters, also must contact the appropriate Senate Press Gallery for accreditation.

DATES: April 13-14, 2004, 9 a.m. to 4:30 p.m. Press availability to follow.

LOCATION: Hart Senate Office Building, Room 216, Washington, DC, 20510

FOR FURTHER INFORMATION CONTACT: Al Felzenberg or Jonathan Stull at (202) 401-1627, (202) 494-3538 (cellular), or jstull@9-11commission.gov.

SUPPLEMENTARY INFORMATION: Please refer to Public Law 107-306 (November 27, 2002), title VI (Legislation creating the Commission), and the Commission's Web site: http://www.9-11commission.gov.

Dated: April 9, 2004.
Philip Zelikow,
Executive Director.

[FR Doc. 04-8523 Filed 4-12-04; 10:52 am]

BILLING CODE 8800-01-M